DEPARTMENT OF COMMERCE

International Trade Administration

(A-489-807)

Certain Steel Concrete Reinforcing Bars from Turkey; Preliminary Results of Antidumping Duty Administrative Review and Notice of Intent to Revoke in Part

AGENCY: Import Administration, International Trade Administration, Department of Commerce.

SUMMARY: The Department of Commerce (the Department) is conducting an administrative review of the antidumping duty order certain steel concrete reinforcing bars (rebar) from Turkey with respect to four¹ companies. The respondents which the Department selected for individual review are Ekinciler Demir ve Celik Sanayi A.S. and Ekinciler Dis Ticaret A.S. (collectively “Ekinciler”); and Habas Sinai ve Tibbi Gazlar Istihsal Endustrisi A.S. (Habas). The respondents which were not selected for individual review are listed in the “Preliminary Results of Review” section of this notice. The review covers the period April 1, 2006, through March 31, 2007.

¹ This figure does not include companies for which the Department has rescinded or preliminarily rescinded this administrative review.

We preliminarily determine that sales were made by Ekinciler below normal value (NV). In addition, based on the preliminary results for the respondents selected for individual review, we have preliminarily determined a weighted-average margin for those companies that were not selected for individual review but were responsive to the Department's requests for information. If these preliminary results are adopted in the final results of this review, we will instruct U.S. Customs and Border Protection (CBP) to assess antidumping duties on all appropriate entries.

We have preliminarily determined to rescind the review with respect to three companies because these companies had no shipments of subject merchandise during the POR.

Interested parties are invited to comment on these preliminary results. We will issue the final results no later than 120 days from the date of publication of this notice.

EFFECTIVE DATE: May 5, 2008.

FOR FURTHER INFORMATION CONTACT: Irina Itkin, AD/CVD Operations, Office 2, Import Administration - Room 1870, International Trade Administration, U.S. Department of Commerce, 14th Street and Constitution Avenue, NW, Washington, DC 20230; telephone: (202) 482-0656.

SUPPLEMENTARY INFORMATION:

Background

On April 2, 2007, the Department published in the Federal Register a notice of “Opportunity To Request Administrative Review” of the antidumping duty order on rebar from Turkey. See Antidumping or Countervailing Duty Order, Finding, or Suspended Investigation; Opportunity To Request Administrative Review, 72 FR 15650 (Apr. 2, 2007).

In accordance with 19 CFR 351.213(b)(2), on April 27 and 30, 2007, the Department received requests to conduct an administrative review of the antidumping duty order on rebar from Turkey from the following producers/exporters of rebar: Colakoglu Metalurji A.S. and Colakoglu Dis Ticaret A.S. (collectively “Colakgolu”); Diler Demir Celik Endustri ve Ticaret A.S., Yazici Demir Celik Sanayi ve Turizm Ticaret A.S., and Diler Dis Ticaret A.S. (collectively “Diler”); Ekinciler; Habas; Izmir Demir Celik Sanayi A.S. (IDC); and Nursan Celik Sanayi ve Haddecilik, A.S. and Nursan Dis Ticaret A.S. (collectively “Nursan”). As part of their requests, Colakoglu, Diler, Ekinciler, and Habas also requested that the Department revoke the antidumping order with regard to them, in accordance with 19 CFR 351.222(b). Also, on April 30, 2007, the domestic interested parties, Nucor Corporation, Gerdau AmeriSteel Corporation and Commercial Metals Company, requested an administrative review for Colakoglu, Diler, Ege Celik Endustrisi Sanayi ve Ticaret A.S. and Ege Dis Ticaret A.S. (collectively “Ege Celik”), Ekinciler, Habas, Kaptan Demir Celik Endustrisi ve Ticaret A.S. and Kaptan Metal Dis Ticaret ve Nakliyat A.S. (collectively “Kaptan”), and Kroman Celik Sanayi A.S. (Kroman) pursuant to section 751(a) of the Tariff Act of 1930, as amended (the Act), and in accordance with 19 CFR 351.213(b)(1).

In May 2007, the Department initiated an administrative review for the nine companies listed above and requested that each provide data on the quantity and value (Q&V) of its exports of subject merchandise to the United States during the period of review (POR). See Initiation of Antidumping and Countervailing Duty Administrative Reviews and Request for Revocation in Part, 72 FR 29968 (May 30, 2007).

On June 4, 2007, we received responses to the Department's Q&V questionnaire from each company. In their responses, three exporters (i.e., Ege Celik, Kaptan, and Kroman) informed the Department that they had no shipments or entries of subject merchandise during the POR. Because we confirmed this with CBP, we are preliminarily rescinding the review with respect to these companies. For further discussion, see the “Partial Rescission of Review” section of this notice.

Based upon our consideration of the responses to the Q&V questionnaire received and the resources available to the Department, we determined that it was not practicable to examine all exporters/producers of subject merchandise for which a review was requested. As a result, on July 16, 2007, we selected the four largest producers/exporters of rebar from Turkey during the POR, Colakoglu, Diler, Ekinciler, and Habas, as the mandatory respondents in this proceeding. See the July 16, 2007, Memorandum to Stephen J. Claeys from James Maeder entitled, “2006-2007 Antidumping Duty Administrative Review on Certain Steel Concrete Reinforcing Bars from Turkey: Selection of Respondents for Individual Review.” On this same date, we issued the antidumping duty questionnaire to these four companies.

In August 2007, we received responses to the questionnaire, as well as requests for voluntary respondent status, from IDC and Nursan. In September 2007, we received responses to the questionnaire from Ekinciler and Habas.

In November 2007, we rescinded the administrative review with respect to Colakoglu and Diler because the antidumping duty order was revoked with respect to them in the 2005-2006 administrative review. See Certain Steel Concrete Reinforcing Bars from Turkey; Notice of Partial Rescission of the Antidumping Administrative Review, 72 FR 65011 (Nov. 19, 2007). Also in November 2007, we declined to accept IDC and Nursan as voluntary respondents, despite a renewed request from IDC that we do so in light of the Department's determination to revoke merchandise produced and exported by Colakoglu and Diler from the order. See the November 8, 2007, Memorandum to James Maeder from the Team entitled, “2006-2007 Administrative Antidumping Duty Review on Certain Steel Concrete Reinforcing Bars from Turkey: Voluntary Respondent Requests.”

Also in November 2007, we postponed the preliminary results of this review until no later than April 29, 2008. See Certain Steel Concrete Reinforcing Bars from Turkey; Notice of Extension of Time Limits for Preliminary Results of Antidumping Duty Administrative Review and New Shipper Review, 72 FR 64583 (Nov. 16, 2007).

During the period November 2007 through January 2008, we issued supplemental questionnaires to Ekinciler and Habas. We received responses to these questionnaires in December 2007 and January 2008.

In February 2008, we conducted an on-site verification of Ekinciler's and Habas' cost responses in Turkey. We intend to verify the sales responses of these respondents in May 2008.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this order is dispositive.

Period of Review

The POR is April 1, 2006, through March 31, 2007.

Partial Rescission of Review

On April 30, 2007, the Department received timely requests, in accordance with 19 CFR 351.213(b)(1), from the domestic interested parties to conduct a review of Ege Celik, Kaptan, and Kroman. The Department initiated a review of these three companies and requested that they supply data on the Q&V of their exports of rebar during the POR. On June 4, 2007, Ege Celik, Kaptan, and Kroman submitted responses to the Q&V questionnaire indicating that they did not export rebar the United States during the POR. We have confirmed this with information obtained from CBP. See the April 29, 2008, memorandum to the File from Irina Itkin, entitled “Confirmation of No Shipments for Certain Companies in the 2006-2007 Antidumping Duty Administrative Review on Certain Steel Concrete Reinforcing Bars from Turkey.” Therefore, in accordance with 19 CFR 351.213(d)(3), and consistent with the Department's practice, we are preliminarily rescinding our review with respect to these companies. See, e.g., Certain Frozen Warmwater Shrimp from Thailand: Final Results and Final Partial Rescission of Antidumping Duty Administrative Review, 72 FR 52065, 52067 (Sept. 12, 2007); Certain Steel Concrete Reinforcing Bars From Turkey; Final Results, Rescission of Antidumping Duty Administrative Review in Part, and Determination To Revoke in Part, 70 FR 67665, 67666 (Nov. 8, 2005).

Notice of Intent To Revoke, in Part

As noted above, on April 27 and 30, 2008, respectively, Habas and Ekinciler requested revocation of the antidumping duty order with respect to their sales of subject merchandise, pursuant to 19 CFR 351.222(b). These requests were accompanied by certifications that: 1) Ekinciler and Habas sold the subject merchandise at not less than NV during the current POR and will not sell the merchandise at less than NV in the future; and 2) they sold subject merchandise to the United States in commercial quantities for a period of at least three consecutive years. Ekinciler and Habas also agreed to immediate reinstatement of the antidumping duty order, as long as any exporter or producer is subject to the order, if the Department concludes that, subsequent to the revocation, they sold the subject merchandise at less than NV.

Pursuant to section 751(d) of the Act, the Department “may revoke, in whole or in part” an antidumping duty order upon completion of a review under section 751(a) of the Act. While Congress has not specified the procedures the Department must follow in revoking an order, the Department has developed a procedure for revocation that is described in 19 CFR 351.222. Sections 351.222(b)(1)(A) and 351.222(b)(2) of the Department's regulations explain that the Secretary may revoke an antidumping duty order in part if the Secretary concludes, inter alia, that one or more exporters or producers covered by the order have sold the subject merchandise in commercial quantities at not less than NV for a period of at least three consecutive years. See Notice of Final Results of the Antidumping Duty Administrative Review and Determination Not to Revoke the Antidumping Duty Order: Brass Sheet and Strip from the Netherlands, 65 FR 742, 743 (Jan. 6, 2000). Our analysis of each company's revocation request is presented below.

1. Ekinciler

Regarding Ekinciler, we do not find that its request for revocation meets all of the criteria under 19 CFR 351.222(b). Specifically, we find that Ekinciler has sold rebar at less than NV in the two previous administrative reviews in which it was involved (i.e., its dumping margins were above de minimis). See Certain Steel Concrete Reinforcing Bars From Turkey; Final Results of Antidumping Duty Administrative Review and New Shipper Review and Determination to Revoke in Part, 72 FR 62630 (Nov. 6, 2007) (2005-2006 Final Results) and Certain Steel Concrete Reinforcing Bars From Turkey; Final Results and Rescission of Antidumping Duty Administrative Review in Part, 71 FR 65082 (Nov. 7, 2006) (2004-2005 Final Results), unchanged in Notice of Amended Final Results and Rescission of Antidumping Duty Administrative Review in Part: Certain Steel Concrete Reinforcing Bars From Turkey, 71 FR 75711 (Dec. 18, 2006) (2004-2005 Amended Final Results). Therefore, we preliminarily determine that Ekinciler does not qualify for revocation of the order on rebar pursuant to 19 CFR 351.222(b)(2), and that the order with respect to merchandise produced and exported by Ekinciler should not be revoked.

Ekinciler contends that it is entitled to revocation in this segment of the proceeding, based on its claim that it anticipates that it will receive a zero or de minimis margin for the prior reviews, following completion of the court's review of Ekinciler's appeal of the final results. However, it is not the Department's policy to take pending court appeals into account when determining whether revocation of the merchandise produced and exported by a particular company from an existing antidumping duty order is warranted. See, e.g., Certain Fresh Cut Flowers From Colombia; Final Results of Antidumping Duty Administrative Review, and Notice of Revocation (in Part), 59 FR 15159, 15166 (Mar. 31, 1994); Color Television Receivers from the Republic of Korea; Final Results of Antidumping Duty Administrative Reviews, 61 FR 4408, 4414 (Feb. 6, 1996). While we acknowledge that the Department's determinations in the two prior segments of this proceeding are currently in litigation, there is no final and conclusive judgment from any court supporting Ekinciler's arguments. In fact, the Court of International Trade (CIT) affirmed the Department's analysis in the 2004-2005 review which resulted in a dumping margin above de minimis for Ekinciler. Moreover, our position in that litigation remains unchanged - namely that the final results were supported by substantial evidence and are fully in accordance with U.S. antidumping law. Thus, if anything, the CIT's decision supports our conclusion that Ekinciler continued to dump subject merchandise over the last three years, and revocation pursuant to 19 CFR 351.222(b) is not warranted.

2. Habas

We preliminarily determine that the request from Habas meets all of the criteria under 19 CFR 351.222(b) and that revocation with regard to Habas is warranted. With regard to the criteria of subsection 19 CFR 351.222(b)(2), our preliminary margin calculations show that Habas sold rebar at not less than NV during the current review period. See the “Preliminary Results of the Review” section below. In addition, Habas sold rebar at not less than NV in the two previous administrative reviews in which it was involved (i.e., its dumping margins were zero or de minimis). See 2005-2006 Final Results and 2004-2005 Final Results unchanged in 2004-2005 Amended Final Results.

Based on our examination of the sales data submitted by Habas, we preliminarily determine that it sold the subject merchandise in the United States in commercial quantities in each of the consecutive years cited by it to support its request for revocation. See the April 29, 2008, Memorandum to the File from Irina Itkin entitled, “Analysis of Habas Sinai ve Tibbi Gazlar Istihsal Endustrisi A.S.'s Commercial Quantities for Request for Revocation.” Thus, we preliminarily find that Habas had zero or de minimis dumping margins for its last three administrative reviews and sold subject merchandise in commercial quantities in each of these years. Also, we preliminarily determine that the application of the antidumping duty order with respect to rebar produced and exported by Habas is no longer warranted for the following reasons: 1) the company had zero or de minimis margins for a period of at least three consecutive years; 2) the company has agreed to immediate reinstatement of the order if the Department finds that it has resumed making sales at less than NV; and 3) the continued application of the order is not otherwise necessary to offset dumping. Therefore, we preliminarily determine that subject merchandise produced and exported by Habas qualifies for revocation of the order on rebar pursuant to 19 CFR 351.222(b)(2), and that the order with respect to such merchandise should be revoked. If these preliminary findings are affirmed in our final results, we will revoke this order in part with respect to rebar produced and exported by Habas and, in accordance with 19 CFR 351.222(f)(3), terminate the suspension of liquidation for any of the merchandise in question that is entered, or withdrawn from warehouse, for consumption on or after April 1, 2007, and instruct CBP to refund any cash deposits for such entries.

Comparisons to Normal Value

To determine whether sales of rebar from Turkey were made in the United States at less than NV, we compared the export price (EP) to the NV, as described in the “Normal Value” section of this notice. When making comparisons in accordance with section 771(16) of the Act, we considered all products sold in the home market as described in the “Scope of the Order” section of this notice, above, that were in the ordinary course of trade for purposes of determining appropriate product comparisons to U.S. sales. Where there were no sales of identical merchandise in the home market made in the ordinary course of trade, we compared U.S. sales to sales of the most similar foreign like product made in the ordinary course of trade based on the characteristics listed in sections B and C of our antidumping questionnaire.

Product Comparisons

In accordance with section 771(16) of the Act, we first attempted to compare products produced by the same company and sold in the U.S. and home markets that were identical with respect to the following characteristics: form, grade, size, and industry standard specification. Where there were no home market sales of foreign like product that were identical in these respects to the merchandise sold in the United States, we compared U.S. products with the most similar merchandise sold in the home market based on the characteristics listed above, in that order of priority. For Ekinciler, because we used two cost periods (see below), we did not compare products across periods.

Export Price

We used EP methodology for all U.S. sales, in accordance with section 772(a) of the Act, because the subject merchandise was sold directly to the first unaffiliated purchaser in the United States prior to importation, and constructed export price methodology was not otherwise warranted based on the facts of record.

Regarding U.S. date of sale, Ekinciler and Habas argued that we should use contract date as the date of sale for their U.S. sales in this review. After analyzing the record, we determine that contract date is inappropriate with regard to Habas because: 1) we previously found that the terms of sale (i.e., price and quantity) were changeable after the contract date for Habas (see Certain Steel Concrete Reinforcing Bars From Turkey; Final Results of Antidumping Duty Administrative Review and New Shipper Review and Determination to Revoke in Part, 72 FR 25253, 25256 (May 4, 2007) (2005-2006 Preliminary Results), unchanged in 2005-2006 Final Results, and Certain Steel Concrete Reinforcing Bars from Turkey; Preliminary Results and Partial Rescission of Antidumping Duty Administrative Review, 71 FR 26455, 26458 (May 5, 2006) (2004-2005 Preliminary Results), unchanged in 2004-2005 Final Results); and 2) we find that there were no changes in the sales process, customers, types of contracts, etc., between the previous administrative review and the current POR for Habas. Where the Department does not use contract date, it uses the earlier of invoice or shipment date as the date of sale. Therefore, for Habas, we have used whichever of these dates is appropriate on a transaction-specific basis.

Further, regarding Ekinciler, we determined that the appropriate U.S. date of sale is contract date because, as in the two previous administrative reviews, we find that the material terms of sale were set at the contract date, given that the terms did not change prior to invoicing (see id.), and there were no changes in the sales process between this and prior segments.

A. Ekinciler

We based EP on packed prices to the first unaffiliated purchaser in the United States. We made deductions from the starting price for foreign inland freight, customs overtime fees, crane charges, terminal charges, inspection fees, ocean freight expenses, marine insurance expenses, U.S. customs duties, and U.S. brokerage and handling expenses, in accordance with section 772(c)(2)(A) of the Act.

B. Habas

We based EP on packed prices to the first unaffiliated purchaser in the United States. We made deductions from the starting price for foreign inland freight expenses, customs overtime fees, loading and handling charges, surveying expenses, and ocean freight expenses, where appropriate, in accordance with section 772(c)(2)(A) of the Act.

Normal Value

A. Home Market Viability and Selection of Comparison Markets

In order to determine whether there is a sufficient volume of sales in the home market to serve as a viable basis for calculating NV (i.e., the aggregate volume of home market sales of the foreign like product is five percent or more of the aggregate volume of U.S. sales), we compared the volume of each respondent's home market sales of the foreign like product to the volume of U.S. sales of subject merchandise, in accordance with section 773(a)(1)(B) of the Act. Based on this comparison, we determined that each respondent had a viable home market during the POR. Consequently, we based NV on home market sales.

For each respondent, in accordance with our practice, we excluded home market sales of non-prime merchandise made during the POR from our preliminary analysis based on the limited quantity of such sales in the home market and the fact that no such sales were made to the United States during the POR. See, e.g., 2005-2006 Preliminary Results, 72 FR at 25257, unchanged in 2005-2006 Final Results; 2004-2005 Preliminary Results, 71 FR at 26459, unchanged in 2004-2005 Final Results; Certain Steel Concrete Reinforcing Bars from Turkey; Preliminary Results, and Partial Rescission of Antidumping Duty Administrative Review and Notice of Intent To Revoke in Part, 70 FR 23990, 23993 (May 6, 2005), unchanged in Certain Steel Concrete Reinforcing Bars from Turkey; Final Results, and Rescission of Antidumping Duty Administrative Review in Part, and Notice of Intent To Revoke in Part, 70 FR 67665 (Nov. 8, 2005).

B. Affiliated-Party Transactions and Arm's-Length Test

Ekinciler and Habas made sales of rebar to affiliated parties in the home market during the POR, as defined in section 771(33) of the Act. Consequently, we tested these sales to ensure that they were made at arm's-length prices, in accordance with 19 CFR 351.403(c). To test whether the sales to affiliates were made at arm's-length prices, we compared the unit prices of sales to affiliated and unaffiliated customers net of all movement charges, direct selling expenses, and packing expenses. Pursuant to 19 CFR 351.403(c) and in accordance with the Department's practice, where the price to that affiliated party was, on average, within a range of 98 to 102 percent of the price of the same or comparable merchandise sold to the unaffiliated parties at the same level of trade (LOT), we determined that the sales made to the affiliated party were at arm's length. See Antidumping Proceedings: Affiliated Party Sales in the Ordinary Course of Trade, 67 FR 69186 (Nov. 15, 2002) (establishing that the overall ratio calculated for an affiliate must be between 98 and 102 percent in order for sales to be considered in the ordinary course of trade and used in the NV calculation). Sales to affiliated customers in the home market that were not made at arm's-length prices were excluded from our analysis because we considered these sales to be outside the ordinary course of trade. See 19 CFR 351.102(b).

C. Cost of Production Analysis

Pursuant to section 773(b)(2)(A)(ii) of the Act, for Ekinciler and Habas there were reasonable grounds to believe or suspect that these respondents made home market sales at prices below their costs of production (COPs) in this review because the Department had disregarded sales that failed the cost test for these companies in the most recently completed segment of this proceeding in which these companies participated (i.e., the 2004-2005 administrative review) at the time of the initiation of this administrative review. As a result, the Department initiated an investigation to determine whether these companies made home market sales during the POR at prices below their COPs.

1. Calculation of COP

In accordance with section 773(b)(3) of the Act, we calculated COP based on the sum of the respondents' cost of materials and fabrication for the foreign like product, plus amounts for general and administrative (G&A) expenses and interest expenses. See the “Test of Home Market Sales Prices” section below for treatment of home market selling expenses.

We relied on the COP information provided by each respondent in its questionnaire responses, except for the following instances where the information was not appropriately quantified or valued:

A. Ekinciler

In its questionnaire response, Ekinciler requested that the Department calculate its costs on a quarterly basis because the cost of scrap increased sharply during the POR. After analyzing this request, we disagree that the change in scrap prices was significant enough to warrant a departure from the Department's normal practice of computing COP on an annual basis. Nonetheless, because we found that a significant amount of Ekinciler's home market sales have a date of sale prior to the POR and that the cost of production increased appreciably from the prior POR to the current POR, we requested that Ekinciler provide the COP data from the prior review period (i.e., April 1, 2005, through March 31, 2006). For these preliminary results, we have used two separate annualized cost periods to calculate Ekinciler's costs in order to match sales of goods to the cost of manufacturing for the period in which those goods were sold. Thus, we used two cost periods for Ekinciler. For those sales with a date of sale prior to the POR, we used the average POR cost from the 2005-2006 administrative review, as adjusted for the final results.

B. Habas

We made no adjustments to the COP information reported by Habas.

2. Test of Home Market Sales Prices

We compared the weighted-average COP figures to home market prices of the foreign like product, as required under section 773(b) of the Act, to determine whether these sales had been made at prices below the COP. On a product-specific basis, we compared the COP to home market prices, less any applicable movement charges, selling expenses, and packing expenses.

In determining whether to disregard home market sales made at prices below the COP, we examined whether such sales were made: 1) in substantial quantities within an extended period of time; and 2) at prices which permitted the recovery of all costs within a reasonable period of time. See sections 773(b)(1)(A) and (B) of the Act.

3. Results of the COP Test

Pursuant to section 773(b)(2)(C)(i) of the Act, where less than 20 percent of a respondent's sales of a given product were at prices less than the COP, we did not disregard any below-cost sales of that product because we determined that the below-cost sales were not made in “substantial quantities.” Where 20 percent or more of a respondent's sales of a given product were at prices below the COP, we determined that sales of that model were made in “substantial quantities” within an extended period of time (as defined in section 773(b)(2)(B) of the Act), in accordance with section 773(b)(2)(C)(i) of the Act. In such cases, we also determined that such sales were not made at prices which would permit recovery of all costs within a reasonable period of time, in accordance with section 773(b)(2)(D) of the Act. Therefore, for purposes of this administrative review, we disregarded these below-cost sales for Ekinciler and Habas and used the remaining sales as the basis for determining NV, in accordance with section 773(a)(1) of the Act.

D. Level of Trade

In accordance with section 773(a)(1)(B)(i) of the Act, to the extent practicable, we determine NV based on sales in the comparison market at the same LOT as EP. The NV LOT is that of the starting-price sales in the comparison market or, when NV is based on constructed value, that of the sales from which we derive selling, G&A expenses, and profit. For EP, the U.S. LOT is also the level of the starting-price sale, which is usually from the exporter to the unaffiliated U.S. customer.

To determine whether NV sales are at a different LOT than EP sales, we examine stages in the marketing process and selling functions along the chain of distribution between the producer and the unaffiliated customer. If the comparison-market sales are at a different LOT and the difference affects price comparability, as manifested in a pattern of consistent price differences between the sales on which NV is based and comparison-market sales at the LOT of the export transaction, we make an LOT adjustment under section 773(a)(7)(A) of the Act.

Both respondents in this review claimed that they sold rebar at a single LOT in their home and U.S. markets. Ekinciler and Habas reported that they sold rebar directly to various categories of customers in the home market. Regarding U.S. sales, both respondents reported only EP sales to the United States to a single customer category (i.e., unaffiliated traders). Similar to their home market channels of distribution, Ekinciler and Habas reported direct sales to U.S. customers.

To determine whether sales to any of these customer categories were made at different LOTs, we examined the stages in the marketing process and selling functions along the chain of distribution for each of these respondents. Regarding home market sales, each of the respondents reported that it performed identical selling functions across customer categories in the home market. After analyzing the data on the record with respect to these functions, we find that the respondents performed the same selling functions for their home market customers, regardless of customer category or channel of distribution. Accordingly, we find that all of the respondents made all sales at a single marketing stage (i.e., at one LOT) in the home market.

Regarding U.S. sales, each of the respondents reported that it only made sales to one customer category through one channel of distribution in the U.S. market and, thus, identical selling functions were performed for all sales. Therefore, after analyzing the data on the record with respect to these functions, we find that the respondents made all sales at a single marketing stage (i.e., at one LOT) in the U.S. market.

Although each of the respondents provided certain additional services for U.S. sales and not home market sales, we did not find these differences to be material selling function distinctions significant enough to warrant a separate LOT for any respondent. Therefore, after analyzing the selling functions performed in each market, we find that the distinctions in selling functions are not material and thus, that the home market and U.S. LOTs are the same. Accordingly, we determined that sales in the U.S. and home markets during the POR for each respondent were made at the same LOT, and as a result, no LOT adjustment is warranted for either of the respondents.

E. Calculation of Normal Value

1. Ekinciler

We based NV on the starting prices to home market customers. Where appropriate, we made deductions from the starting price for billing adjustments. In addition, where appropriate, we made deductions for foreign inland freight expenses, in accordance with section 773(a)(6)(B) of the Act.

Pursuant to section 773(a)(6)(C)(iii) of the Act and 19 CFR 351.410(b), we made circumstance-of-sale adjustments for credit expenses, bank charges, and exporter association fees. We deducted home market packing costs and added U.S. packing costs, in accordance with sections 773(a)(6)(A) and (B) of the Act.

Where appropriate, we made an adjustment to NV to account for differences in physical characteristics of the merchandise, in accordance with section 773(a)(6)(C)(ii) of the Act and 19 CFR 351.411(a). Consistent with the use of production costs for the two cost periods noted above, we have relied on the corresponding production costs for purposes of calculating our difference in merchandise adjustment.

2. Habas

We based NV on the starting prices to home market customers. For those home market sales negotiated in U.S. dollars, we used the U.S.-dollar price, rather than the Turkish lira (YTL) price adjusted for kur farki (i.e., an adjustment to the YTL invoice price to account for the difference between the estimated and actual YTL value on the date of payment), because the only price agreed upon was a U.S.-dollar price, which remained unchanged. The buyer merely paid the YTL-equivalent amount at the time of payment. This treatment is consistent with our treatment of these transactions in the most recently completed segment of this proceeding. See 2005-2006 Preliminary Results, 72 FR at 25260, unchanged in the final results.

Pursuant to section 773(a)(6)(C)(iii) of the Act and 19 CFR 351.410(b), we made circumstance-of-sale adjustments for credit expenses and exporter association fees. We deducted home market packing costs and added U.S. packing costs, in accordance with sections 773(a)(6)(A) and (B) of the Act.

Where appropriate, we made an adjustment to NV to account for differences in physical characteristics of the merchandise, in accordance with section 773(a)(6)(C)(ii) of the Act and 19 CFR 351.411(a).

Currency Conversion

We made currency conversions into U.S. dollars pursuant to section 773A(a) of the Act and 19 CFR 351.415. Although the Department's preferred source for daily exchange rates is the Federal Reserve Bank, the Federal Reserve Bank does not track or publish exchange rates for Turkish Lira. Therefore, we made currency conversions based on exchange rates from the Dow Jones Reuters Business Interactive LLC (trading as Factiva).

Preliminary Results of the Review

We preliminarily determine that the following margins exist for the respondents during the period April 1, 2006, through March 31, 2007:

Manufacturer/Producer/Exporter | Percent Margin
Ekinciler Demir ve Celik Sanayi A.S./Ekinciler Dis Ticaret A.S. | 3.42
Habas Sinai ve Tibbi Gazlar Istithsal Endustrisi A.S. | 0.00

Review-Specific Average Rate Applicable to the Following Companies:²

² This rate is based on the weighted average of the margins calculated for those companies selected for individual review, excluding de minimis margins or margins based entirely on adverse facts available (AFA).

Manufacturer/Exporter | Percent Margin
Izmir Demir Celik Sanayi A.S. | 3.42
Nursan Celik Sanayi ve Haddecilik, A.S. /Nursan Dis Ticaret A.S. | 3.42

Disclosure and Public Hearing

The Department will disclose to parties the calculations performed in connection with these preliminary results within five days of the date of publication of this notice. See 19 CFR 351.224(b). Pursuant to 19 CFR 351.309, interested parties may submit cases briefs not later than 30 days after the date of publication of this notice. Rebuttal briefs, limited to issues raised in the case briefs, may be filed not later than 35 days after the date of publication of this notice. Parties who submit case briefs or rebuttal briefs in this proceeding are requested to submit with each argument: 1) a statement of the issue; 2) a brief summary of the argument; and, 3) a table of authorities.

Interested parties who wish to request a hearing or to participate if one is requested must submit a written request to the Assistant Secretary for Import Administration, Room 1870, within 30 days of the date of publication of this notice. Requests should contain: 1) the party's name, address and telephone number; 2) the number of participants; and, 3) a list of issues to be discussed. See 19 CFR 351.310(c). Issues raised in the hearing will be limited to those raised in the respective case briefs. The Department will issue the final results of the administrative review, including the results of its analysis of issues raised in any written briefs, not later than 120 days after the date of publication of this notice, pursuant to section 751(a)(3)(A) of the Act.

Assessment

Upon completion of the administrative review, the Department shall determine, and CBP shall assess, antidumping duties on all appropriate entries, in accordance with 19 CFR 351.212. The Department will issue appropriate appraisement instructions for the companies subject to this review directly to CBP 15 days after the date of publication of the final results of this review.

Pursuant to 19 CFR 351.212(b)(1), for all sales made by Ekinciler, because Ekinciler is the importer of record, we have the reported entered value of the U.S. sales. Therefore, we have calculated importer-specific assessment rates based on the ratio of the total amount of antidumping duties calculated for the examined sales to the total entered value of those sales.

Regarding Habas' sales, we note that it did not report the entered value for the U.S. sales in question. Accordingly, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem ratios based on the estimated entered value.

For the responsive companies which were not selected for individual review, we will calculate an assessment rate based on the weighted average of the cash deposit rates calculated for the companies selected for individual review excluding any which are de minimis or determined entirely on AFA.

We will instruct CBP to assess antidumping duties on all appropriate entries covered by these reviews if any importer-specific assessment rate calculated in the final results of these reviews is above de minimis (i.e., at or above 0.50 percent). Pursuant to 19 CFR 351.106(c)(2), we will instruct CBP to liquidate without regard to antidumping duties any entries for which the assessment rate is de minimis (i.e., less than 0.50 percent). See 19 CFR 351.106(c)(1).

We are preliminarily revoking the order with respect to shipments of rebar produced and exported by Habas. If this revocation becomes final, we will instruct CBP to terminate the suspension of liquidation for exports of such merchandise entered, or withdrawn from warehouse, for consumption on or after April 1, 2007, and to refund all cash deposits collected.

The final results of this review shall be the basis for the assessment of antidumping duties on entries of merchandise covered by the final results of this review and for future deposits of estimated duties, where applicable.

The Department clarified its “automatic assessment” regulation on May 6, 2003 (68 FR 23954). This clarification will apply to entries of subject merchandise during the POR produced by companies included in these preliminary results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following cash deposit requirements will be effective for all shipments of the subject merchandise (except shipments of rebar produced and exported by Habas, as noted above) entered, or withdrawn from warehouse, for consumption on or after the publication date of the final results of the administrative review, as provided by section 751(a)(2)(C) of the Act: 1) the cash deposit rate for each specific company listed above will be that established in the final results of these reviews, except if the rate is less than 0.50 percent, and therefore, de minimis within the meaning of 19 CFR 351.106(c)(1), in which case the cash deposit rate will be zero; 2) for previously reviewed or investigated companies not participating in these reviews, the cash deposit rate will continue to be the company-specific rate published for the most recent period; 3) if the exporter is not a firm covered in these reviews or the original less-than-fair-value (LTFV) investigation, but the manufacturer is, the cash deposit rate will be the rate established for the most recent period for the manufacturer of the merchandise; and 4) the cash deposit rate for all other manufacturers or exporters will continue to be 16.06 percent, the all-others rate established in the LTFV investigation. These requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing the results of this administrative review in accordance with sections 751(a)(1) and 777(i)(1) of the Act.

Dated: April 29, 2008.
David M. Spooner,
Assistant Secretary for Import Administration.

[FR Doc. E8-9887 Filed 5-2-08; 8:45 am]

BILLING CODE 3510-DS-S